DEPARTMENT OF THE INTERIOR

Bureau of Land Management

[BLM_AK_FRN_MO4500170070]

Notice of Intent To Establish Recreation Fees on Public Lands in the Anchorage District Office, Alaska

AGENCY: Bureau of Land Management, Interior.

ACTION: Notice of intent.

SUMMARY: Pursuant to applicable provisions of the Federal Lands Recreation Enhancement Act (FLREA), the Bureau of Land Management (BLM), Anchorage District Office, intends to establish recreation fees for expanded amenities at the Campbell Creek Science Center located in the Campbell Tract Facility in Anchorage, Alaska.

DATES: All new fees will take effect on October 23, 2023.

ADDRESSES: The business plan and information concerning the proposed fees may be reviewed at the Campbell Creek Science Center, 5600 Science Center Drive, Anchorage, AK 99507; or online at www.blm.gov/programs/recreation/permits-and-fees/business-plans.

FOR FURTHER INFORMATION CONTACT: Nancy Patterson, manager, Campbell Creek Science Center, telephone: (907) 267-1255, email: npatterson@blm.gov.

Individuals in the United States who are deaf, deafblind, hard of hearing, or have a speech disability may dial 711 (TTY, TDD, or TeleBraille) to access telecommunications relay services for contacting Ms. Patterson. Individuals outside the United States should use the relay services offered within their country to make international calls to the point-of-contact in the United States.

SUPPLEMENTARY INFORMATION: The FLREA directs the Secretary of the Interior to publish a six-month advance notice in the Federal Register whenever new recreation fee areas are established. The BLM is proposing to establish recreation fees for expanded amenities at the Campbell Creek Science Center. The Center serves as the primary education, interpretation, and outreach entity for the BLM in Alaska. Since the Center was established in November 1996, it has provided environmental education and interpretive programs to the public and local schools. Its programming has expanded statewide to include increased interpretive experiences for the public, both virtually and in person. The Center provides outdoor education experiences for more than 41,000 annual visitors.

These facilities qualify as sites where visitors can be charged an “Expanded Amenity Recreation Fee” under 16 U.S.C. 6802(g) of FLREA. Section 6802 also authorizes the BLM to collect standard amenity and special recreation permit fees for specialized recreation uses of public lands. Pursuant to FLREA and implementing regulations at 43 CFR 2933, fees may be charged for day use of highly developed recreation sites, enhanced interpretive programs, and rental of audio tour devices, portable sanitation devices, binoculars, or other equipment.

Effective October 23, 2023, the Campbell Creek Science Center will initiate new fee collection at the facility unless the BLM publishes a Federal Register notice to the contrary. The BLM will begin collecting fees for distance learning (per individual per hour: $5; per group of maximum 30 persons per hour: $140) and the electric day-use site ($50 per day, for use by groups who exceed size limits for inside the science center. This site allows large groups to operate while continuing to offer the science center for the public).

In accordance with BLM recreation fee program policy, the Anchorage District Office has developed a recreational fee business plan that is available as listed in the ADDRESSES section. The business plan explains the fee collection process and outlines how fees will be used at the fee site. Any future adjustments in the fee amounts would be handled in accordance with the business plan, with public notice before any fee increase.

The BLM notified and involved the public at each stage of the planning process for the new fees. The BLM posted written notices of proposed fees at the fee site on January 13, 2022. It announced a 30-day public comment period on the draft business plan on January 13, 2022, through a BLM news release and the BLM website. The draft business plan was publicly available for review and comment at the BLM Campbell Creek Science Center and on the BLM Alaska business plan website from January 13, 2022, to February 12, 2022.

(Authority: 16 U.S.C. 6803(b) and 43 CFR 2933.)

Steven M. Cohn,
BLM Alaska State Director.

[FR Doc. 2023-08528 Filed 4-21-23; 8:45 am]

BILLING CODE 4331-10-P